ENVIRONMENTAL PROTECTION AGENCY

[EPA-HQ-OLEM-2018-0693, FRL-9990-26-OEI]

Agency Information Collection Activities; Submission to OMB for Review and Approval; Comment Request; Identification of Non-Hazardous Secondary Materials That Are Solid Waste (Renewal)

AGENCY: Environmental Protection Agency (EPA).

ACTION: Notice.

SUMMARY: The Environmental Protection Agency (EPA) has submitted an information collection request (ICR), Identification of Non-Hazardous Secondary Materials that are Solid Waste (EPA ICR Number 2382.05, OMB Control Number 2050-0205) to the Office of Management and Budget (OMB) for review and approval in accordance with the Paperwork Reduction Act. This is a proposed extension of the ICR, which is currently approved through April 30, 2019. Public comments were previously requested via the Federal Register on October 29, 2018 during a 60-day comment period. This notice allows for an additional 30 days for public comments. A fuller description of the ICR is given below, including its estimated burden and cost to the public. An agency may not conduct or sponsor and a person is not required to respond to a collection of information unless it displays a currently valid OMB control number.

DATES: Additional comments may be submitted on or before July 1, 2019.

ADDRESSES: Submit your comments, referencing Docket ID No. EPA-HQ-OLEM-2018-0693, to (1) EPA, either online using www.regulations.gov (our preferred method), or by email to rcra-docket@epa.gov, or by mail to: RCRA Docket (2822T), U.S. Environmental Protection Agency, 1200 Pennsylvania Avenue NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Jesse Miller, Office of Resource Conservation and Recovery, Materials Recovery and Waste Management Division, MC 5302P, Environmental Protection Agency, 1200 Pennsylvania Ave. NW, Washington, DC 20460; telephone number: (703) 308-1180; fax number: (703) 308- 0522; email address: miller.jesse@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: EPA published the Non-Hazardous Secondary Materials (NHSM) Rule on March 21, 2011. This rule finalized standards and procedures to be used to identify whether non-hazardous secondary materials are solid wastes when used as fuels or ingredients in combustion units. “Secondary material” is defined as any material that is not the primary product of a manufacturing or commercial process, and can include post-consumer material, off-specification commercial chemical products or manufacturing chemical intermediates, post-industrial material, and scrap (codified in § 241.2). “Non-hazardous secondary material” is a secondary material that, when discarded, would not be identified as a hazardous waste under 40 CFR part 261 (codified in § 241.2). This RCRA solid waste definition determines whether a combustion unit is required to meet the emissions standards for solid waste incineration units issued under section 129 of the Clean Air Act (CAA) or the emissions standards for commercial, industrial, and institutional boilers issued under section 112 of the CAA. In this rule, EPA also finalized a definition of traditional fuels.

Amendments to this rule were published on February 7, 2013 (78 FR 9112), which added new materials to the list of categorical non-waste fuels. These amendments also provided clarification on certain issues on which EPA received new information, as well as specific targeted revisions. Further amendments to this rule were published on February 8, 2016 (81 FR 6688) and on February 7, 2018 (83 FR 5317), which added more materials to the list of categorical non-waste fuels.

Form Numbers: None.

Respondents/affected entities: Entities potentially affected by this action are Business or other for-profit.

Respondent's obligation to respond: Required to obtain benefit (Sections 1004 and 2002 of RCRA).

Estimated number of respondents: 1,656.

Frequency of response: One-time.

Total estimated burden: 868 hours per year. Burden is defined at 5 CFR 1320.03(b).

Total estimated cost: $72,295 (per year), includes $1,539 in annualized capital or operation & maintenance costs.

Changes in the Estimates: There is a decrease of 2,368 hours in the total estimated respondent burden compared with the ICRs currently approved by OMB. This decrease is due to a decrease in the estimation of the number of certification statements, and to a decrease in the number of respondents needing to familiarize themselves with the requirements.

Courtney Kerwin,
Director, Regulatory Support Division.

[FR Doc. 2019-08645 Filed 4-29-19; 8:45 am]

BILLING CODE 6560-50-P